FEDERAL MARITIME COMMISSION

[Ocean Transportation Intermediary License No. 16211N]

Global Shipping, Inc.; Order of Revocation

Section 19(b) of the Shipping Act of 1984, as amended, provides that the Federal Maritime Commission (“Commission”) may revoke any Ocean Transportation Intermediary (“OTI”) license for failure of a licensee to maintain valid proof of financial responsibility on file with the Commission. The Commission's implementing regulations, 46 CFR 515.16(a), provide for such revocation effective as of the termination date of the proof of financial responsibility, unless the licensee shall have submitted a valid replacement before such termination date.

The surety bond issued in favor of Global Shipping, Inc., Parkway One, Suite 201, 2697 International Parkway, Virginia Beach, VA 23452, was cancelled effective December 9, 1999. On November 23, 1999, the licensee was advised that it is prohibited from providing transportation by water as an NVOCC in the foreign commerce of the United States unless the Commission received a valid replacement proof of financial responsibility with an effective date on or before December 9, 1999. The licensee has failed to provide such a replacement.

Therefore, By virtue of the authority vested in me by the Commission as set forth in 46 CFR 501.27(g)(1998);

Notice is hereby given, That the OTI license issued to Global Shipping, Inc. is hereby revoked effective December 9, 1999.

It is ordered, That the above OTI license be returned to the Commission for cancellation.

It is further ordered, That a notice of this action be published in the Federal Register and a copy of this Order be served upon Global Shipping, Inc.

Austin L. Schmitt,
Director, Bureau of Tariffs, Certification and Licensing.

[FR Doc. 00-1394 Filed 1-19-00; 8:45 am]

BILLING CODE 6730-01-M